DEPARTMENT OF LABOR

Employment and Training Administration

Proposed Information Collection; Comments: Work Opportunity Tax Credit Program and the Welfare-to-Work Tax Credit

ACTION: Notice.

SUMMARY: The U.S. Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments on the proposed three-year extension (without change) of the Work Opportunity Tax Credit (WOTC) Program and the Welfare-to-Work Tax Credit (WtWTC) electronic reporting form ETA 9058; administrative forms ETA 9057, 9059, 9061-9063 and 9065; and the following program related documents: January 2006, Revised, Third Edition of ETA Handbook No. 408; “Guidance for Work Opportunity Tax Credit and Welfare-to Work Tax Credit Allotments Fiscal Year (FY) 2005,” Training and Employment Guidance Letter (TEGL); and the Technical Assistance and Review Guide. This request covers the period from June 2006 to June 2009. A copy of the proposed Information Collection Request (ICR) can be obtained by contacting the office listed below in the addressee section of this notice or by accessing this link: http://www.doleta.gov/Performance/guidance/OMBControlNumber.cfm.

DATES: Submit comments on or before May 22, 2006.

ADDRESSES: Send comments to: Christine Kulick, U.S. Department of Labor, Employment and Training Administration, Office of Workforce Investment, Division of Adult Services, Room S-4231, 200 Constitution Avenue, NW., Washington, DC 20210 (202-693-3937—not a toll free number), fax: 202-693-3015, and e-mail address: kulick.christine@dol.gov

FOR FURTHER INFORMATION CONTACT: Carmen Ortiz, U.S. Department of Labor, Employment and Training Administration, Office of Workforce Investment, Division of Adult Services, Room S-4231, 200 Constitution Avenue, NW., Washington, DC 20210 (202-693-2786—not a toll free number), fax: 202-693-3015, and e-mail address: ortiz.carmen@dol.gov.

SUPPLEMENTARY INFORMATION:

I. Background

Data on WOTC and WtWTC Tax Credits will be collected by state workforce agencies (SWAs) and provided to the Office of Workforce Investment, Division of Adult Services, Washington, DC, through the appropriate Department of Labor (DOL) regional offices via a quarterly management report. Data obtained from the administrative or processing forms will be used for WOTC and WtWTC program performance management and outcome reporting.

II. Desired Focus of Comments

Currently, ETA is soliciting comments concerning the proposed three-year extension (without change) of the WOTC Program and the WtWTC electronic reporting form ETA 9058; administrative forms ETA 9057, 9059, 9061-9063 and 9065; and the following program related documents: January 2006, Revised Third Edition of ETA Handbook No. 408; “Guidance for the Work Opportunity Tax Credit Program and Welfare-to-Work Tax Credit Allotments Fiscal Year (FY) 2005” TEGL; and the Technical Assistance and Review Guide. This request covers the period from June 2006 through June 2009.

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond by including the use of appropriate automated, electronic, mechanical, or other technological collection techniques or other forms of information technology, e.g., permitting electronic submissions of responses.

A copy of the proposed Information Collection Request (ICR) can be obtained by contacting the office listed above in the addressee section of this notice or by accessing this link: http://www.doleta.gov/Performance/guidance/OMBControlNumber.cfm.

III. Current Actions

This is a request for Office of Management and Budget (OMB) approval under the Paperwork Reduction Act of 1995 (PRA95) (44 U.S.C. 3506(c)(2)(A)) to extend the collection of information and use of program materials for WOTC and WtWTC. On October 4, 2004, the President signed into law the “Working Families Tax Relief Act of 2004,” Public Law 108-311. This law reauthorized the WOTC and WtWTC, without changes, through December 31, 2005. The reauthorization was retroactive to the tax credits' expiration date of December 31, 2003. OMB authorization for WOTC and WtWTC administrative and electronic reporting forms and other related materials will expire on June 30, 2006. Because Congress reauthorizes these tax credits continuously for periods that range between one and three years, we are requesting a three-year extension through June 2009, to continue the existing uninterrupted collection of information. Further, the Government Paperwork Elimination Act (GPEA) of 1998 (Pub. L. 105-277) requires that, when feasible, federal agencies design and implement the use of automated systems that facilitate the electronic signature and filing of forms (by participants) to conduct official business with the public by 2003. The Office of Workforce Investment, Division of Adult Services, complied with this requirement by successfully implementing an electronic reporting system for the tax credits' program and WOTC and WtWTC quarterly report. The automated reporting system is known as ETA's Enterprise Business Support System (EBSS) Tax Credit Reporting System (TCRS). EBSS/TCRS is a Web-based system that allows states to meet the reporting responsibilities in a more efficient manner while reducing the reporting burden on the state, regional, and national levels. Through this system, states can manually enter or electronically upload the required quarterly data report (ETA Form 9058). This electronic reporting system reduced burden hours by 78 percent from 3,215,368 annual burden hours estimated for these forms in the 2002 ICR to 703,125 actual burden hours in 2004. The present ICR reflects the substantial decrease in response time for these forms.

Type of Review: Three-Year Extension (without change).

Agency: Employment and Training Administration.

Title: Work Opportunity Tax Credit and Welfare-to-Work Tax Credit.

OMB Number: 1205-0371.

Burden Hours: (see chart below).

Burden hour requirement | Total respondents | Frequency | Annual responses | Average response time | Annual burden hours
Form 905 | 52 | Quarterly | 208 | 1:00 | 208
Form 9058 | 52 | Quarterly | 208 | 1:00 | 208
Form 9059 | 52 | Quarterly | 208 | 1:00 | 208
Employer/Job-seeker complete Form 9061 | 770,000 | On occasion | 770,000 | .33 | 254,100
Form 9061 processed by SWAs | 52 | On occasion | 770,000 | .33 | 254,100
Form 9062 | 52 | On occasion | 40 | .33 | 13
Form 9063 | 52 | On occasion | 440,000 | .33 | 145,200
Form 9065 | 52 | Quarterly | 208 | 1:00 | 208
Record keeping | 52 | Annually | 52 | 931 | 48,412
Planning guidance | 52 | One Time | 52 | 8:00 | 416
Modification planning guidance | 52 | One Time | 52 | 1:00 | 52
Total |  |  | 1,801,028 |  | 703,125

Total Burden Hours: 703,125.

Total Burden Cost (capital/startup): 0.

Total Burden Cost (operating/maintaining): 0.

Comments submitted in response to this notice will be summarized and/or included in the request for Office of Management and Budget approval of the information collection request, and they will also become a matter of public record.

Dated: Signed at Washington, DC this 16th day of March, 2006.
Gay Gilbert,
Administrator, Office of Workforce Investment, Employment & Training Administration.

[FR Doc. E6-4190 Filed 3-22-06; 8:45 am]

BILLING CODE 4510-30-P